DEPARTMENT OF HOMELAND SECURITY

[Docket ID DHS-2018-0033]

The President's National Security Telecommunications Advisory Committee

AGENCY: National Protection and Programs Directorate, Department of Homeland Security.

ACTION: Committee Management; Notice of Federal Advisory Committee Meeting.

SUMMARY: The Department of Homeland Security (DHS) is publishing this notice to announce the following President's National Security Telecommunications Advisory Committee (NSTAC) meeting. This meeting is open to the public.

DATES: The NSTAC will meet on Wednesday, August 15, 2018, from 1:00 p.m. to 2:00 p.m. Eastern Time (ET). Please note that the meeting may close early if the committee has completed its business.

ADDRESSES: The meeting will be held via conference call. For access to the conference call bridge, information on services for individuals with disabilities, or to request special assistance to participate, please email NSTAC@hq.dhs.gov by 5:00 p.m. ET on Friday, August 10, 2018.

Members of the public are invited to provide comment on the issues that will be considered by the committee as listed in the SUPPLEMENTARY INFORMATION section below. Associated briefing materials that participants may discuss during the meeting will be available at www.dhs.gov/nstac for review as of Wednesday, August 1, 2018. Comments may be submitted at any time and must be identified by docket number DHS-2018-0033. Comments may be submitted by one of the following methods:

• Federal eRulemaking Portal: http://www.regulations.gov. Please follow the instructions for submitting written comments.

• Email: NSTAC@hq.dhs.gov. Include the docket number DHS-2018-0033 in the subject line of the email.

• Fax: (703) 705-6190, ATTN: Sandy Benevides.

• Mail: Helen Jackson, Designated Federal Official, Stakeholder Engagement and Cyber Infrastructure Resilience Division, National Protection and Programs Directorate, Department of Homeland Security, 245 Murray Lane, Mail Stop 0612, Arlington, VA 20598-0612.

Instructions: All submissions received must include the words “Department of Homeland Security” and docket number DHS-2018-0033. Comments received will be posted without alteration at www.regulations.gov, including any personal information provided.

Docket: For access to the docket and comments received by the NSTAC, please go to www.regulations.gov and enter docket number DHS-2018-0033.

A public comment period will be held during the teleconference on August 15, 2018, from 1:40 p.m.-1:55 p.m. ET. Speakers who wish to participate in the public comment period must register in advance by no later than Friday, August 10, 2018, at 5:00 p.m. ET by emailing NSTAC@hq.dhs.gov. Speakers are requested to limit their comments to three minutes and will speak in order of registration. Please note that the public comment period may end before the time indicated, following the last request for comments.

FOR FURTHER INFORMATION CONTACT: Helen Jackson, NSTAC Designated Federal Official, Department of Homeland Security, (703) 705-6276 (telephone) or helen.jackson@hq.dhs.gov (email).

SUPPLEMENTARY INFORMATION: Notice of this meeting is given under the Federal Advisory Committee Act, 5 U.S.C. Appendix (Pub. L. 92-463). The NSTAC advises the President on matters related to national security and emergency preparedness (NS/EP) telecommunications and cybersecurity policy.

Agenda: The NSTAC will hold a conference call on Wednesday, August 15, 2018, to discuss a potential new study topic regarding advancing resiliency and fostering innovation in the information and communications technology ecosystem. Additionally, the NSTAC will receive an update on the committee's progress on its current Cybersecurity Moonshot study. The goal of this study is to examine and expedite progress against the Nation's critical cybersecurity challenges. The committee has examined various approaches to a Moonshot and is developing recommendations that steer the Administration towards a shared, strategic vision and an ambitious, outcome-focused cybersecurity end goal.

Dated: July 26, 2018.
Helen Jackson,
Designated Federal Official for the NSTAC.

[FR Doc. 2018-16395 Filed 7-31-18; 8:45 am]

BILLING CODE 9110-09-P